DEPARTMENT OF THE INTERIOR

National Park Service

National Register of Historic Places; Notification of Pending Nominations and Related Actions

Nominations for the following properties being considered for listing or related actions in the National Register were received by the National Park Service before August 3, 2007.

Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by September 4, 2007.

J. Paul Loether,
Chief, National Register of Historic Places/National Historic Landmarks Program.

CALIFORNIA

San Diego County

Cuyamaca Village, Address Restricted, San Diego, 07000935.

GEORGIA

Fulton County

Apartments at 2 Collier Road, 2 Collier Rd., Atlanta, 07000937.

Apartments at 22-24 Collier Road, 22-24 Collier Rd., Atlanta, 07000938.

Spalding County

Marian Apartments, 400 W. Poplar St., Griffin, 07000936.

Talbot County

Stamper, Martin and Lucretia, House, 3224 Flint Hill Hwy (GA 85E), Shiloh, 07000939.

LOUISIANA

Orleans Parish

Broadmoor Historic District (Boundary Increase), Roughly bounded by Walmsley, S. White, Eden, and S. Jefferson Davis Pkwy, New Orleans, 07000940.

MARYLAND

Anne Arundel County

Freetown Rosenwald School, (Rosenwald Schools of Anne Arundel County, Maryland MPS), 7825 Freetown Rd., Glen Burnie, 07000943.

Baltimore Independent city, Clifton Park, Bounded by Hartford Rd., Erdman Ave., Clifton Park Terrace, the Baltimore Relt RR and Sinclair Ln., Baltimore (Independent City), 07000941.

Highfield House, 4000 N. Charles St., Baltimore (Independent City), 07000942.

MASSACHUSETTS

Essex County

Essex Town Hall and TOHP Burnham Library, 30 Martin St., Essex, 07000946.

Middlesex County

Concord Armory, 51 Walden St., Concord, 07000945.

Norfolk County

Millis Center Historic District, Curve, Daniels, Exchange, Irving, Lavender, Main, Union Sts., Millis, 07000944.

MONTANA

Carbon County

Red Lodge Brewing Company—Red Lodge Canning Company, 904 N. Bonner St., Red Lodge, 07000947.

NEW HAMPSHIRE

Carroll County

Carroll County Court House, 20 Courthouse Square, Ossipee, 07000949.

Rockingham County

Smyth Public Library, 194 High St., Candia, 07000948.

NEW MEXICO

Santa Fe County

Arroyo Hondo Pueblo, Address Restricted, Santa Fe, 07000950.

NEW YORK

Kings County

75th Police Precinct Station House, 484 Liberty Ave., Brooklyn, 07000952.

PENNSYLVANIA

Philadelphia County

Biberman Building, 611-619 N. 15th St., Philadelphia, 07000951.

[FR Doc. E7-16240 Filed 8-17-07; 8:45 am]

BILLING CODE 4310-70-P